DEPARTMENT OF LABOR

Employment and Training Administration

[TA-W-73,354]

Hugo Boss Cleveland, Inc., Including Workers Whose Unemployment Insurance (UI) Wages Are Paid Through Tjfc Distribution Brooklyn, OH; Amended Certification Regarding Eligibility To Apply for Worker Adjustment Assistance

In accordance with Section 223 of the Trade Act of 1974, as amended (“Act”), 19 U.S.C. 2273, the Department of Labor issued a Certification of Eligibility To Apply for Worker Adjustment Assistance on April 8, 2010, applicable to workers of Hugo Boss Cleveland, Inc., Brooklyn, Ohio. The notice was published in the Federal Register on May 5, 2010 (75 FR 24750).

At the request of the State agency, the Department reviewed the certification for workers of the subject firm. The workers are engaged in the production of men's suits.

Information shows that in Hugo Boss purchased TJFC Distribution in 1998. Some workers separated from employment at the Brooklyn, Ohio location of Hugo Boss Cleveland, Inc. had their wages reported under a separate unemployment insurance (UI) tax account under the name TJFC Distribution.

Accordingly, the Department is amending this certification to properly reflect this matter.

The intent of the Department's certification is to include all workers of the subject firm who were adversely affected by increased imports of men's suits.

The amended notice applicable to TA-W-73,354 is hereby issued as follows:

All workers of Hugo Boss Cleveland, Inc., including workers whose unemployment insurance (UI) wages are paid through TJFC Distribution, Brooklyn, Ohio, who became totally or partially separated from employment on or after January 14, 2009 through April 8, 2012, and all workers in the group threatened with total or partial separation from employment on date of certification through two years from the date of certification, are eligible to apply for adjustment assistance under Chapter 2 of Title II of the Trade Act of 1974, as amended.

Signed at Washington, DC, this 10th day of January 2012.
Elliott S. Kushner,
Certifying Officer, Office of Trade Adjustment Assistance.

[FR Doc. 2012-1331 Filed 1-23-12; 8:45 am]

BILLING CODE 4510-FN-P